ENVIRONMENTAL PROTECTION AGENCY

[FRL-7423-8]

Clean Water Act Section 303(d): Final Agency Action on 37 Total Maximum Daily Loads (TMDLs)

AGENCY: Environmental Protection Agency (EPA).

ACTION: Notice of availability.

SUMMARY: This notice announces final agency action on 37 TMDLs prepared by EPA Region 6 for waters listed in the state of Arkansas, under section 303(d) of the Clean Water Act (CWA). These TMDLs were completed in response to the lawsuit styled Sierra Club, et al. v. Clifford, et al., No. LR-C-99-114. Documents from the administrative record files for the final 37 TMDLs, including TMDL calculations and responses to comments, may be viewed at http://www.epa.gov/earth1r6/6wq/artmdl.htm.

ADDRESSES: The administrative record files for these 37 TMDLs may be obtained by writing or calling Ms. Ellen Caldwell, Environmental Protection Specialist, Water Quality Protection Division, U.S. Environmental Protection Agency Region 6, 1445 Ross Ave., Dallas, TX 75202-2733. Please contact Ms. Caldwell to schedule an inspection.

FOR FURTHER INFORMATION CONTACT: Ellen Caldwell at (214) 665-7513.

SUPPLEMENTARY INFORMATION: In 1999, five Arkansas environmental groups, the Sierra Club, Federation of Fly Fishers, Crooked Creek Coalition, Arkansas Fly Fishers, and Save our Streams (plaintiffs), filed a lawsuit in Federal Court against the United States Environmental Protection Agency (EPA), styled Sierra Club, et al. v. Browner et al., No. LR-C-99-114. Among other claims, plaintiffs alleged that EPA failed to establish Arkansas TMDLs in a timely manner.

EPA Takes Final Agency Action on 37 TMDLs

By this notice EPA is taking final agency action on the following 37 TMDLs for waters located within the state of Arkansas:

Segment-reach | Waterbody name | Pollutant
11140203-20-11.9 | Dorcheat Bayou | Mercury
11140203-22-8.4 | Dorcheat Bayou | Mercury
11140203-24-7 | Dorcheat Bayou | Mercury
11140203-26-23.3 | Dorcheat Bayou | Mercury
11110206-02-8.7 | Fourche LaFave River | Mercury
11010014-36 | South Fork Little Red River | Mercury
11140203 | Columbia Lake | Mercury
11110206 | Cove Creek Lake | Mercury
11110206 | Dry Fork Lake | Mercury
11110206 | Nimrod Lake | Mercury
11010014 | Johnson Hole | Mercury
11110201 | Shepherd Springs Lake | Mercury
11110207 | Lake Sylvia | Mercury
11110207 | Spring Lake | Mercury
08040201-02-22.5 | Ouachita River | Mercury
08040201-04-2.5 | Ouachita River | Mercury
08040202 | Oxbow River—Oxbows below Camden | Mercury
08040202 | Felsenthal Wildlife Refuge | Mercury
08040202-02-4 | Ouachita River | Mercury
08040202-03-8.4 | Ouachita River | Mercury
08040202-04-28.9 | Ouachita River | Mercury
08040203 | Lake Winona | Mercury
08040203-01-0.2 | Saline River | Mercury
08040204-01-2.8 | Saline River | Mercury
08040204-02-53 | Saline River | Mercury
08040204-04-16.4 | Saline River | Mercury
08040204-06-17.5 | Saline River | Mercury
08040201-01-12 | Moro Creek | Mercury
08040201-03-20 | Champagnolle Creek | Mercury
08040202-03-8.4 | Little Champagnolle | Mercury
08040205-02-17.9 | Bayou Bartholomew | Mercury
08040205-12-82.7 | Bayou Bartholomew | Mercury
08040205-07-16.8 | Cutoff Creek | Mercury
08040201-606-8.5 | ELCC Tributary | Chloride
08040201-606-8.5 | ELCC Tributary | Sulfate
08040201-606-8.5 | ELCC Tributary | TDS
08040201-606-8.5 | ELCC Tributary | Ammonia

EPA requested the public to provide EPA with any significant data or information that may impact the 37 TMDLs at Federal Register Notice: Volume 67, Number 202, pages 64369-64370 (October 18, 2002). The comments received and EPA's response to comments may be found at http://www.epa.gov/earth1r6/6wq/artmdl.htm.

Dated: December 10, 2002.
Miguel I. Flores,
Director, Water Quality Protection Division, Region 6.

[FR Doc. 02-31902 Filed 12-17-02; 8:45 am]

BILLING CODE 6560-50-P